GENERAL SERVICES ADMINISTRATION

[FMR Bulletin 2004-B3]

Federal Management Regulation; Redesignations of Federal Buildings

AGENCY: Public Buildings Service (P), GSA.

ACTION: Notice of a bulletin.

SUMMARY: The attached bulletin announces the redesignations of 8 Federal buildings.

DATES: Effective Date: This bulletin expires January 9, 2005. However, the building redesignations announced by this bulletin will remain in effect until canceled or superseded.

FOR FURTHER INFORMATION CONTACT: Paul Chistolini, General Services Administration, Public Buildings Service (P), Washington, DC 20405; e-mail, paul.chistolini@gsa.gov, telephone (202) 501-1100.

Dated: August 30, 2004.
Stephen A. Perry,
Administrator of General Services.

To: Heads of Federal agencies.

Subject: Redesignations of Federal buildings.

1. What is the purpose of this bulletin? This bulletin announces the redesignations of 8 Federal buildings.

2. When does this bulletin expire? This bulletin expires January 9, 2005. However, the building redesignations announced by this bulletin will remain in effect until canceled or superseded.

3. Redesignations. The former and new names of the buildings being redesignated are as follows:

Former name | New name
Federal Building and United States Courthouse, 46 Ohio Street, Indianapolis, IN 46204 | Birch Bayh Federal Building and United States Courthouse, 46 Ohio Street, Indianapolis, IN 46204.
United States Court of International Trade Building, 1 Federal Plaza, New York, NY 10278 | James L. Watson United States Court of International Trade Building, 1 Federal Plaza, New York, NY 10278.
United States Courthouse, 101 North Fifth Street, Muskogee, OK 74401 | Ed Edmondson United States Courthouse, 101 North Fifth Street, Muskogee, OK 74401.
Federal Building, 800 Independence Avenue, SW., Washington, DC 20591 | Orville Wright Federal Building, 800 Independence Avenue, SW., Washington, DC 20591.
Federal Building, 600 Independence Avenue, SW., Washington, DC 20003 | Wilbur Wright Federal Building, 600 Independence Avenue, SW., Washington, DC 20003.
United States Courthouse, 400 North Miami Avenue, Miami, FL 33128 | Wilkie D. Ferguson, Jr. United States Courthouse, 400 North Miami Avenue, Miami, FL 33128.
Federal Building, 250 West Cherry Street, Carbondale, IL 62901 | Senator Paul Simon Federal Building, 250 West Cherry Street, Carbondale, IL 62901.
Federal Building, 228 Walnut Street, Harrisburg, PA 17108 | Ronald Reagan Federal Building, 228 Walnut Street, Harrisburg, PA 17108.

4. Who should we contact for further information regarding redesignations of these Federal buildings? General Services Administration, Public Buildings Service, Office of the Commissioner, Attn: Paul Chistolini, 1800 F Street, NW., Washington, DC 20405, Telephone Number: (202) 501-1100, E-mail Address: paul.chistolini@gsa.gov.

[FR Doc. 04-20481 Filed 9-9-04; 8:45 am]

BILLING CODE 6820-23-P